DEPARTMENT OF ENERGY

Federal Energy Regulatory Commission

Combined Notice of Filings

Take notice that the Commission has received the following Natural Gas Pipeline Rate and Refund Report filings:

Filings Instituting Proceedings

Docket Numbers: RP13-914-000.

Applicants: Natural Gas Pipeline Company of America.

Description: Tenaska Negotiated Rate Agreement to be effective 5/16/2013.

Filed Date: 5/16/13.

Accession Number: 20130516-5046.

Comments Due: 5 p.m. ET 5/28/13.

Docket Numbers: RP13-915-000.

Applicants: Natural Gas Pipeline Company of America.

Description: Macquarie Negotiated Rate Agreement to be effective 5/16/2013.

Filed Date: 5/16/13.

Accession Number: 20130516-5055.

Comments Due: 5 p.m. ET 5/28/13.

Docket Numbers: RP13-916-000.

Applicants: Natural Gas Pipeline Company of America.

Description: Renaissance LPS-RO to be effective 5/16/2013.

Filed Date: 5/16/13.

Accession Number: 20130516-5095.

Comments Due: 5 p.m. ET 5/28/13.

Docket Numbers: RP13-917-000.

Applicants: Natural Gas Pipeline Company of America.

Description: NJR Energy Negotiated Rate Agreement to be effective 5/16/2013.

Filed Date: 5/16/13.

Accession Number: 20130516-5104.

Comments Due: 5 p.m. ET 5/28/13.

Docket Numbers: RP13-918-000.

Applicants: White River Hub, LLC.

Description: 2013 Fuel Gas Reimbursement Report of White River Hub, LLC.

Filed Date: 5/16/13.

Accession Number: 20130516-5140.

Comments Due: 5 p.m. ET 5/28/13.

Docket Numbers: RP13-919-000.

Applicants: Natural Gas Pipeline Company of America.

Description: Natural Gas Pipeline Company of America LLC submits tariff filing per 154.204: Negotiated Rate Filing—Interstate Power to be effective 5/21/2013.

Filed Date: 5/17/13.

Accession Number: 20130517-5131.

Comments Due: 5 p.m. ET 5/29/13.

Docket Numbers: RP13-920-000.

Applicants: Natural Gas Pipeline Company of America.

Description: Natural Gas Pipeline Company of America LLC submits tariff filing per 154.204: BP Canada Energy Negotiated Rate to be effective 6/1/2013.

Filed Date: 5/17/13.

Accession Number: 20130517-5146.

Comments Due: 5 p.m. ET 5/29/13.

Docket Numbers: RP13-921-000.

Applicants: Empire Pipeline, Inc.

Description: Empire Pipeline, Inc. submits tariff filing per 154.204: Correction to GTC Sec 14 to be effective 10/28/2011.

Filed Date: 5/17/13.

Accession Number: 20130517-5151.

Comments Due: 5 p.m. ET 5/29/13.

Docket Numbers: RP13-922-000.

Applicants: Equitrans, L.P.

Description: Equitrans, L.P. submits tariff filing per 154.203: Compliance Filing—Sunrise Retainage to be effective 7/1/2013.

Filed Date: 5/20/13.

Accession Number: 20130520-5024.

Comments Due: 5 p.m. ET 6/3/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-240-001.

Applicants: Trailblazer Pipeline Company LLC.

Description: FTB Compliance (5-16-13) to be effective 5/1/2013.

Filed Date: 5/16/13.

Accession Number: 20130516-5094.

Comments Due: 5 p.m. ET 5/23/13.

Docket Numbers: RP13-378-002.

Applicants: Viking Gas Transmission Company.

Description: Viking Gas Transmission Company submits tariff filing per 154.203: 2012 Housekeeping Compliance II to be effective 1/22/2013.

Filed Date: 5/17/13.

Accession Number: 20130517-5061.

Comments Due: 5 p.m. ET 5/29/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 20, 2013.
Nathaniel J. Davis, Sr.,
Deputy Secretary.

[FR Doc. 2013-12471 Filed 5-24-13; 8:45 am]

BILLING CODE 6717-01-P